DEPARTMENT OF LABOR

Employment and Training Administration

[TA-W-56,873]

Federal-Mogul; Blacksburg, VA; Notice of Termination of Investigation

Pursuant to Section 221 of the Trade Act of 1974, as amended, an investigation was initiated on April 4, 2005 in response to a petition filed on behalf of workers at Federal-Mogul, Blacksburg, Virginia.

This is a duplicate petition that was initiated in error. The original petition is the subject of an ongoing investigation under petition number TA-W-56,861, initiated on March 30, 2005. Consequently, further investigation in this case would serve no purpose, and the investigation has been terminated.

Signed at Washington, DC this 6th day of April, 2005.
Linda G. Poole,
Certifying Officer, Division of Trade Adjustment Assistance.

[FR Doc. E5-2090 Filed 4-29-05; 8:45 am]

BILLING CODE 4510-30-P